OFFICE OF THE UNITED STATES TRADE REPRESENTATIVE

[Docket No. USTR-2017-0017]

2017 Special 301 Out-of-Cycle Review of Thailand: Request for Comments

AGENCY: Office of the United States Trade Representative.

ACTION: Request for comments.

SUMMARY: The Office of the United States Trade Representative (USTR) is conducting a Special 301 Out-of-Cycle Review of Thailand. USTR requests written comments concerning any act, policy, or practice that is relevant to the decision regarding whether and how USTR should identify Thailand based on Thailand's protection for intellectual property rights or market access Thailand provides to U.S. persons who rely on intellectual property protection.

DATES:

October 20, 2017, at 11:59 p.m. Eastern Time: Deadline for submission of written comments.

October 27, 2017, at 11:59 p.m. Eastern Time: Deadline for submission of written comments from foreign governments.

ADDRESSES: You should submit written comments through the Federal eRulemaking Portal: http://www.regulations.gov. Follow the instructions for submitting comments in section III below. For alternatives to on-line submissions, please contact USTR at Special301@ustr.eop.gov before transmitting a comment and in advance of the relevant deadline.

FOR FURTHER INFORMATION CONTACT: Daniel Lee, Deputy Assistant U.S. Trade Representative for Innovation and Intellectual Property, at Special301@ustr.eop.gov or (202) 395-4510. You can find information about the Special 301 Review at www.ustr.gov.

SUPPLEMENTARY INFORMATION:

I. Background

Pursuant to Section 182 of the Trade Act of 1974 (19 U.S.C. 2242), USTR must identify countries that deny adequate and effective protection for intellectual property rights (IPR) or deny fair and equitable market access to U.S. persons who rely on intellectual property protection. USTR will identify the countries that have the most onerous or egregious acts, policies, or practices and whose acts, policies, or practices have the greatest adverse impact (actual or potential) on relevant U.S. products as Priority Foreign Countries. Acts, policies, or practices that are the basis of a country's designation as a Priority Foreign Country normally are the subject of an investigation under the Section 301 provisions of the Trade Act (19 U.S.C. 2411 et seq.). USTR may not identify a country as a Priority Foreign Country if that country is entering into good faith negotiations or making significant progress in bilateral or multilateral negotiations to provide adequate and effective IPR protection. In addition, USTR has created a “Priority Watch List” and a “Watch List” under the Special 301 provisions. Placement of a trading partner on the Priority Watch List or Watch List indicates that particular problems exist in that country with respect to IPR protection, enforcement, or market access for persons relying on intellectual property. Countries placed on the Priority Watch List are the focus of increased bilateral attention concerning the problem areas.

An Out-of-Cycle Review (OCR) is a tool that USTR uses to encourage progress on IPR issues of concern. It provides an opportunity for heightened engagement with a trading partner to address and remedy such issues. Successful resolution of specific IPR issues of concern or lack of action on such issues can lead to a change in a trading partner's identification on a Special 301 list outside of the typical period for the annual Special 301 Report. USTR may conduct OCRs of other trading partners as circumstances warrant or as requested by the trading partner.

In the 2017 Special 301 Report, USTR placed Thailand on the Priority Watch List but noted that the United States was prepared to review that status if Thailand continued to take positive steps and made substantial progress in addressing the concerns described in the Report. Thailand has requested that USTR conduct an OCR in light of its efforts to achieve substantial progress.

II. Public Comments

USTR invites written comments concerning any act, policy, or practice that is relevant to the decision regarding whether USTR should identify Thailand under Section 182 of the Trade Act. Submissions may report positive or negative developments with respect to Thailand. USTR requests that interested parties provide specific references to laws, regulations, policy statements, executive, presidential or other orders, administrative, court or other determinations that should factor into the review. USTR also requests that submissions include data, loss estimates, and other information regarding the economic impact on the United States, U.S. industry, and the U.S. workforce caused by the denial of adequate and effective intellectual property protection. For comments that include quantitative loss claims, you should include the methodology used to calculate the estimated losses. Comments should be as detailed as possible and should provide all necessary information for assessing the effect of the acts, policies, and practices, particularly with respect to issues regarding Thailand identified in the 2017 Special 301 Report.

III. Submission Instructions

All submissions must be in English and sent electronically via www.regulations.gov. To submit comments, locate the docket (folder) by entering the docket number USTR-2017-0017 in the “SEARCH for: Rules, Comments, Adjudications or Supporting Documents” window at the regulations.gov homepage and clicking “Search.” The site will provide a search-results page listing all documents associated with this docket. Locate the reference to this notice by selecting “Notice” under “Document Type” on the left side of the search-results page, and clicking on the link entitled “Comment Now!” You should provide comments in an attached document, and name the file according to the following protocol, as appropriate: Commenter Name, or Organization_2017 Special 301 OCR Thailand. Please include the following information in the “Type Comment” field: “2017 Out-of-Cycle Review of Thailand.” USTR prefers submissions in Microsoft Word (.doc) or Adobe Acrobat (.pdf) formats. If the submission is in another file format, please indicate the name of the software application in the “Type Comment” field. For further information on using the www.regulations.gov Web site, please select “How to Use Regulations.gov” on the bottom of any page.

Please do not attach separate cover letters to electronic submissions; rather, include any information that might appear in a cover letter in the comments themselves. Similarly, to the extent possible, please include any exhibits, annexes, or other attachments in the same file as the comment itself, rather than submitting them as separate files.

For any comment submitted electronically that contains business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter. Additionally, the submitter should type “Business Confidential 2017 Special 301 OCR Thailand” in the “Comment” field.

Filers of comments containing business confidential information also must submit a public version of their comments. The file name of the public version should begin with the character “P”. The non-business confidential version will be placed in the docket at www.regulations.gov and be available for public inspection.

As noted, USTR strongly urges submitters to file comments through www.regulations.gov. You must make any alternative arrangements in advance of the relevant deadline and before transmitting a comment by contacting USTR at Special301@ustr.eop.gov.

We will post comments in the docket for public inspection, except business confidential information. You can view comments on the https://www.regulations.gov Web site by entering docket number USTR-2017-0017 in the search field on the home page.

Elizabeth Kendall,
Acting Assistant U.S. Trade Representative for Innovation and Intellectual Property, Office of the United States Trade Representative.

[FR Doc. 2017-20103 Filed 9-20-17; 8:45 am]

BILLING CODE 3290-F7-P